DEPARTMENT OF JUSTICE

Notice of Lodging of Settlement Agreement Under the Comprehensive Environmental Response, Compensation, and Liability Act (CERCLA)

Notice is hereby given that on July 9, 2008, a proposed Settlement Agreement Regarding the Coeur d'Alene “Box” Site was filed with the United States Bankruptcy Court for the Southern District of Texas in In re ASARCO LLC, et al. , Case No. 05-21207 (Bankr. S.D. Tex.). The Coeur d'Alene “Box” Site consists of Operable Units 1 and 2 of the Bunker Hill Mining and Metallurgical Complex Superfund Site in Idaho. The proposed settlement provides the United States and the State of Idaho a joint allowed general unsecured claim of $10 million and provides the United States an additional separate allowed general unsecured claim of $6.8 million. In addition, the proposed settlement provides for the transfer to the United States of certain properties (the “Page Properties,” as defined in the settlement) and for their contemporaneous transfer to the State of Idaho pursuant to 42 U.S.C. 9604(j) for the purpose of performing remedial action within the Site.

For thirty (30) days after the date of this publication, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, comments should refer to In re Asarco LLC, Case No. 05-21207 (Bankr. S.D. Tex.), D.J. Ref. No. 90-11-3-08633. Commenters may request an opportunity for a public meeting in the affected area, in accordance with Section 7003(d) of RCRA, 42 U.S.C. 6973(d).

The proposed Settlement Agreement may be examined at: the Office of the United States Attorney for the Southern District of Texas, 800 North Shoreline Blvd, #500, Corpus Chrsti, TX 78476-2001; and the Region 10 Office of the United States Environmental Protection Agency, 1200 Sixth Avenue, Suite 900, Seattle, WA 98101. During the comment period, the proposed Settlement Agreement may also be examined on the following Department of Justice website: http://www.usdoj.gov/enrd/Consent_Decree.html . A copy of the proposed Settlement Agreement may also be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.50 for the Settlement Agreement (25 cents per page reproduction costs) payable to the United States Treasury or, if by e-mail or fax, forward a check in that amount to the Consent Decree Library at the stated address.

Maureen M. Katz,
Assistant Section Chief, Environmental Enforcement Section, Environment and Natural Resources Division.

[FR Doc. E8-16132 Filed 7-15-08; 8:45 am]

BILLING CODE 4410-15-P